DEPARTMENT OF ENERGY

Federal Energy Regulatory Commission

[Docket No. CP23-535-000]

WBI Energy Transmission, Inc.; Notice of Schedule for the Preparation of an Environmental Assessment for the South Spearfish Project

On August 28, 2023, WBI Energy Transmission, Inc. (WBI Energy) filed an application in Docket No. CP23-535-000 requesting a Certificate of Public Convenience and Necessity pursuant to section 7(c) and Authorization pursuant to section 7(b) of the Natural Gas Act to construct, operate, and abandon certain natural gas pipeline facilities. The proposed project is known as the South Spearfish Project (Project) and would allow for incremental firm transportation capacity from WBI Energy's existing Line Section 15 in western South Dakota to the community of Spearfish, South Dakota for Montana-Dakota Utilities, Company.

On September 11, 2023, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹

¹ 40 CFR 1501.10 (2020)

Schedule for Environmental Review

Issuance of EA—February 26, 2024

90-day Federal Authorization Decision Deadline ²—May 26, 2024

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

WBI Energy proposes the following in Lawrence County, South Dakota:

• modify the Deadwood-Central City Lateral Takeoff Valve Setting adjacent to the Deadwood Mainline Transfer Station on WBI Energy's Line Section 15;

• increase the maximum allowable operating pressure of the 8-inch-diameter Deadwood-Central City Lateral from the Deadwood Mainline Transfer Station to the proposed South Spearfish Town Border Station;

• install two pig launcher/receivers,³ one at each end of the uprated Deadwood-Central City Lateral;

³ A “pig” is a tool that the pipeline company inserts into and pushes through the pipeline for cleaning the pipeline, conducting internal inspections, or other purposes. A pig launcher/receiver are facilities where pigs are inserted/retrieved from the pipeline.

• construct the new South Spearfish Town Border Station adjacent to the existing South Spearfish Lateral Takeoff Valve Setting. The new station would contain the relocated South Spearfish Town Border Station and the new Deadwood Lateral Transfer Station;

• relocate approximately 500 feet of the South Spearfish Lateral adjacent to the South Spearfish Town Border Station and the existing South Spearfish Lateral Takeoff Valve Setting; and

• abandon by sale the existing 5.5-mile-long 4-inch-diameter South Spearfish Lateral and certain town border station equipment, at the existing South Spearfish Town Border Station to Montana-Dakota Utilities, Company upon the commissioning of the new South Spearfish Town Border Station.

Background

On October 13, 2023, the Commission issued a Notice of Scoping Period Requesting Comments on Environmental Issues for the Proposed South Spearfish Project (Notice of Scoping). The Notice of Scoping was sent to affected landowners; Federal, State, and local government agencies; elected officials; environmental and public interest groups; Native American Tribes; other interested parties; and local libraries. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP23-535), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 27, 2023.
Debbie-Anne A. Reese,
Deputy Secretary.

[FR Doc. 2023-24259 Filed 11-2-23; 8:45 am]

BILLING CODE 6717-01-P